DEPARTMENT OF ENERGY

Federal Energy Regulatory Commission

[Docket No. CP25-18-000]

DCP Operating Company, LP; Notice of Petition for Declaratory Order

Take notice that on November 12, 2024, pursuant to Rule 207(a)(2) of the Federal Energy Regulatory Commission's (Commission) Rules of Practice and Procedure, DCP Operating Company, LP (DCP Operating or Petitioner) filed a petition for declaratory order requesting that the Commission issue an order finding that upon DCP Operating's acquisition of certain pipeline facilities in the Anadarko Basin in various counties of Texas, Oklahoma, and Kansas, from Cimarron River Pipeline LLC, the facilities will perform a gathering function and are not subject to the Commission's jurisdiction under section 7 of the Natural Gas Act, 15 U.S.C. 717b, as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene, or protest must serve a copy of that document on the Petitioner.

The Commission encourages electronic submission of comments, protests, and interventions in lieu of paper using the “eFiling” link at http://www.ferc.gov. Persons unable to file electronically may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any submission should include docket number CP25-18-000.

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5 p.m. Eastern Time on January 10, 2025.

Dated: December 11, 2024.
Carlos D. Clay,
Acting Deputy Secretary.

[FR Doc. 2024-29668 Filed 12-16-24; 8:45 am]

BILLING CODE 6717-01-P